DEPARTMENT OF LABOR

Employment and Training Administration

[TA-W-55,528]

Drager Medical; A Division Of Dragerwerk AG; Telford, PA; Dismissal of Application for Reconsideration

Pursuant to 29 CFR 90.18(C) an application for administrative reconsideration was filed with the Director of the Division of Trade Adjustment Assistance for workers at Drager Medical, a Division of Dragerwerk AG, Telford, Pennsylvania. The application contained no new substantial information which would bear importantly on the Department's determination. Therefore, dismissal of the application was issued.

TA-W-55,528; Drager Medical; A Division of Dragerwerk AG; Telford, Pennsylvania (December 8, 2004)

Signed at Washington, DC this 13th day of December 2004.
Timothy Sullivan,
Director, Division of Trade Adjustment Assistance.

[FR Doc. E4-3740 Filed 12-17-04; 8:45 am]

BILLING CODE 4510-30-P